DEPARTMENT OF TRANSPORTATION

Federal Aviation Administration

Commercial Space Transportation Advisory Committee; Open Meeting

AGENCY: Federal Aviation Administration (FAA), DOT.

ACTION: Notice of Commercial Space Transportation Advisory Committee Open Meeting.

SUMMARY: Pursuant to Section 10(a)(2) of the Federal Advisory Committee Act (Pub. L. 92-463, 5 U.S.C. App. 2), notice is hereby given of a meeting of the Commercial Space Transportation Advisory Committee (COMSTAC). The meeting will take place on Tuesday, October 9, 2012, from 8:00 a.m. to 5:00 p.m., and Wednesday, October 10, 2012, from 8:30 a.m. to 2:15 p.m., at the National Housing Center, 1201 15th Street NW., Washington, DC, 20005. This will be the 56th meeting of the COMSTAC.

The proposed agenda for October 9 features meetings of the working groups as follows:

—Operations (8:00 a.m.-10:00 a.m.)

—Business/Legal (10:00 a.m.-12:00 p.m.)

—Systems (1:00 p.m.-3:00 p.m.)

—Export Controls (3:00 p.m.-5:00 p.m.)

The proposed agenda for October 10 features:

—Speakers relevant to the commercial space transportation industry;

—Reports and recommendations from the working groups.

Interested members of the public may submit relevant written statements for the COMSTAC members to consider under the advisory process. Statements may concern the issues and agenda items mentioned above and/or additional issues that may be relevant for the U.S. commercial space transportation industry. Interested parties wishing to submit written statements should contact Susan Lender, DFO, (the Contact Person listed below) in writing (mail or email) by October 1, 2012, so that the information can be made available to COMSTAC members for their review and consideration before the October 9 and 10, 2012, meetings. Written statements should be supplied in the following formats: One hard copy with original signature and/or one electronic copy via email.

Subject to approval, a portion of the October 10th meeting will be closed to the public (starting at approximately 3:00 p.m.).

An agenda will be posted on the FAA Web site at www.faa.gov/go/ast. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Susan Lender (AST-100), Office of Commercial Space Transportation (AST), 800 Independence Avenue SW., Room 331, Washington, DC 20591, telephone (202) 267-8029; Email susan.lender@faa.gov. Complete information regarding COMSTAC is available on the FAA Web site at: http://www.faa.gov/about/office_org/headquarters_offices/ast/advisory_committee/.

Issued in Washington, DC, August 21, 2012.
George C. Nield,
Associate Administrator for Commercial Space Transportation.

[FR Doc. 2012-21149 Filed 8-27-12; 8:45 am]

BILLING CODE 4910-13-P